DEPARTMENT OF HOMELAND SECURITY

Transportation Security Administration

New Agency Information Collection Activity Under OMB Review: TSA Reimbursable Screening Services Program (RSSP) Request

AGENCY: Transportation Security Administration, DHS.

ACTION: 30-Day notice.

SUMMARY: This notice announces that the Transportation Security Administration (TSA) has forwarded the new Information Collection Request (ICR) abstracted below to the Office of Management and Budget (OMB) for review and approval under the Paperwork Reduction Act (PRA). The ICR describes the nature of the information collection and its expected burden. The collection involves public and private entities requesting participation in TSA's Reimbursable Screening Services Program (RSSP), currently a pilot program for up to eight locations, to obtain TSA security screening services outside of an existing primary passenger airport terminal screening area where screening services are currently provided or would be eligible to be provided under TSA's annually appropriated passenger screening program.

DATES: Send your comments by August 15, 2019. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to dhsdeskofficer@omb.eop.gov.

FOR FURTHER INFORMATION CONTACT: Christina A. Walsh, TSA PRA Officer, Information Technology (IT), TSA-11, Transportation Security Administration, 601 South 12th Street, Arlington, VA 20598-6011; telephone (571) 227-2062; email TSAPRA@tsa.dhs.gov.

SUPPLEMENTARY INFORMATION: TSA published a Federal Register notice, with a 60-day comment period soliciting comments, of the following collection of information on May 6, 2019, 84 FR 19801.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Title: TSA Reimbursable Screening Services Program (RSSP) Request.¹

¹ Since the publication of the 60-day notice, TSA has revised the name of the collection from “TSA Reimbursable Screening Services Program (RSSP) Application to “TSA Reimbursable Screening Services Program (RSSP) Request.” No other changes to the ICR have been made.

Type of Request: New collection.

OMB Control Number: 1652-XXXX.

Form(s): NA.

Affected Public: Public or private entities regulated by TSA.

Abstract: The RSSP is authorized by section 225, Division A, of the Consolidated Appropriations Act, 2019, Public Law 116-6 (133 Stat. 13; Feb. 15, 2019). Under this provision, TSA may establish a pilot for public or private entities regulated by TSA to request reimbursable screening services outside of an existing primary passenger terminal screening area where screening services are currently provided or eligible to be provided under TSA's annually appropriated passenger screening program. For purposes of section 225, “screening services” means “the screening of passengers, flight crews, and their carry-on baggage and personal articles, and may include checked baggage screening if that type of screening is performed at an offsite location that is not part of a passenger terminal of a commercial airport.” TSA is collecting this information to establish a process for public and private entities regulated by TSA to request screening services under the RSSP.

Number of Respondents: 12.²

² Since the publication of the 60-day notice, the annual burden number has been updated from 154 to 96 hours annually.

Estimated Annual Burden Hours: An estimated 96 hours annually.

Dated: July 10, 2019.
Christina A. Walsh,
TSA Paperwork Reduction Act Officer, Information Technology.

[FR Doc. 2019-15003 Filed 7-15-19; 8:45 am]

BILLING CODE 9110-05-P